DEPARTMENT OF COMMERCE

National Oceanic and Atmospheric Administration

50 CFR Part 648

[Docket No. 001127331-1044-02; I.D. 102600B]

RIN 0648-AN69

Fisheries of the Northeastern United States; Atlantic Mackerel, Squid, and Butterfish Fisheries; 2001 Specifications and Foreign Fishing Restrictions; Correction

AGENCY: National Marine Fisheries Service (NMFS), National Oceanic and Atmospheric Administration (NOAA), Commerce.

ACTION: Final rule; correction.

SUMMARY: The final rule to implement the 2001 specifications for the Atlantic mackerel, squid, and butterfish fisheries, published on Friday, March 2, 2001, contained an error in the designation of a paragraph related to distribution of Loligo squid commercial quotas. This document corrects the error.

DATES: Effective March 2, 2001.

FOR FURTHER INFORMATION CONTACT: William D. Chappell, Fishery Management Specialist, 301-713-2341 or e-mail at William.Chappell@noaa.gov.

SUPPLEMENTARY INFORMATION:

Background

The final rule to implement the 2001 specifications for the Atlantic mackerel, squid, and butterfish fisheries was published on March 2, 2001 (66 FR 13024). In that rule, amendatory instruction 2 incorrectly stated that § 648.21(e) was revised. This amendatory instruction should have indicated that § 648.21 (f) was revised. This document corrects the error contained in the March 2, 2001, final rule by moving the text of the current § 648.21 (e) to § 648.21 (f) and reinstating the original language in § 648.21 (e). For the convenience of the user, amendatory instruction 2 and the related regulatory text are reprinted in their entirety.

Correction

Accordingly, the publication on March 2, 2001, of the 2001 specifications for the Atlantic mackerel, squid, and butterfish fisheries (I.D. 102600B), which appeared in the final regulations, was the subject of document FR Doc. 01-5133, is corrected as follows:

PART 648—[CORRECTED]

On page 13028, first and second columns, amendatory instruction 2 and the regulatory text following it are corrected to read as follows:

2. In § 648.21, paragraph (f) is revised to read as follows:

§ 648.21 Procedures for determining initial annual amounts.

* * * * *

(f) Distribution of annual Loligo squid commercial quota. (1) Beginning January 1, 2001, a commercial quota will be allocated annually for Loligo squid into quarterly periods, based on the following percentages:

Quarter | Percent
I—January-March | 33.23
II—April-June | 17.61
III—July-September | 17.30
IV—October-December | 31.86

(2) Beginning January 1, 2001, any overages of commercial quota landed from Quarter I will be subtracted from Quarter III and any overages of commercial quota landed from Quarter II will be subtracted from Quarter IV.

Authority: 16 U.S.C. 1801 et seq.

Dated: June 29, 2001.
William T. Hogarth,
Acting Assistant Administrator for Fisheries, National Marine Fisheries Service.

[FR Doc. 01-16980 Filed 7-5-01; 8:45 am]

BILLING CODE 3510-22-S